DEPARTMENT OF COMMERCE

Submission for OMB Review; Comment Request

The Department of Commerce will submit to the Office of Management and Budget (OMB) for clearance the following proposal for collection of information under the provisions of the Paperwork Reduction Act (44 U.S.C. Chapter 35).

Agency: U.S. Census Bureau.

Title: Address Canvassing Testing.

OMB Control Number: 0607-XXXX.

Form Number(s):

DF-31DA(E/S) Confidentiality Notice.

LiMA Screenshots.

Type of Request: Regular Submission.

Number of Respondents: 86,250.

Average Hours per Response: 5 minutes per Household.

Burden Hours: 7,188.

Needs and Uses: During the years preceding the 2020 Census, the Census Bureau will pursue its commitment to reduce the costs of conducting a decennial census, while maintaining our commitment to quality. The goal of Reengineering Address Canvassing is to ensure an accurate address frame is developed utilizing innovative methodologies and data for updating the Master Address File (MAF)/Topologically Integrated Geographic Encoding and Referencing (TIGER) System throughout the decade. The Census Bureau plans to test Address Canvassing during the Fall of 2016 in the Address Canvassing Test, and in the Spring of 2017 as part of the 2017 Puerto Rico Census Test. Both tests will include two major components of the reengineered Address Canvassing operation: In-Office Address Canvassing and In-Field Address Canvassing. The purpose of the tests is to determine the accuracy and feasibility of some of the planned innovations for Address Canvassing. The Census Bureau believes that there are other means for accomplishing the address list updates and determining which areas have housing changes without canvassing every single block in the field just before the census as was done in previous censuses. These tests will examine these new methods, which will allow decisions to be made about their feasibility for use within the decennial census.

The following objectives are crucial to a successful Address Canvassing Test and 2017 Puerto Rico Census Test:

• Implementing all planned 2020 Census In-Office Address Canvassing processes, including Interactive Review (IR), Active Block Resolution (ABR), MAF Updating and Identification of the In-Field Address Canvassing workload.

• Evaluating the effectiveness of online training for Field Supervisors and Field Representatives.

• Measuring the effectiveness of In-Office Address Canvassing through In-Field Address Canvassing.

• Integrating multiple information technology applications to create one seamless operational data collection, control and management system.

The Address Canvassing Test occurs in two sites within the continental United States. Each site is comprised of 4,000 blocks with up to 125,000 addresses in each site. All living quarters in the test sites are included in the In-Office Address Canvassing workload, as well as the In-Field Address Canvassing workload. For the In-Field Address Canvassing data collection, listers will knock on every door to ask residents about their living quarters. In addition to the Address Canvassing Test, the Census Bureau will also test the Address Canvassing operation as part of the 2017 Puerto Rico Census Test. This information is new compared to the information that was included in the Federal Register Notice for the Address Canvassing Test. The addition of the 2017 Puerto Rico Census Test Address Canvassing necessitated a name change for this package to “Address Canvassing Testing” from the “Address Canvassing Test” that appeared in the earlier Federal Register Notice. The Address Canvassing operations in the 2017 Puerto Rico Census Test will occur in the winter of 2017 and in the sites selected for the 2017 Puerto Rico Census Test. This universe consists of an estimated 95,000 housing units in the selected areas. The methodology and test objectives for the Address Canvassing operation in the 2017 Puerto Rico Census Test are the same as the Address Canvassing Test.

Supporting Documents About the 2020 Census Design and the Address Canvassing Test Objectives

We are submitting with the package the following documents with the purpose stated:

1. The 2020 Census Operational Plan documents at a high-level the objectives for the census tests already completed, as well as those planned for the future. This document shows the current planned design of the 2020 Census and identifies design decisions made, as well as remaining decisions to be made using census test results. https://www.census.gov/programs-surveys/decennial-census/2020-census/planning-management/memo-series/2020-memo-2015_02.html.

2. The 2020 Census Detailed Operational Plan for the Address Canvassing Operation complements the U.S. Census Bureau's 2020 Census Operational Plan. This document describes the objectives and procedures for all aspects of the Address Canvassing program, including a description of the major tasks involved in the implementation, the overall program workflow, and the overall resources needed to support the effort. https://www.census.gov/programs-surveys/decennial-census/2020-census/planning-management/memo-series/2020-memo-2015_04.html.

3. The 2020 Census Research and Testing Management Plan defines the high-level research for the life-cycle of the program, thereby providing direction for research and testing activities and for decision-making based on the outcomes. https://www.census.gov/programs-surveys/decennial-census/2020-census/planning-management/memo-series/2020-memo-2015_03.html.

In addition, we are submitting planning documents that list our Goals, Objectives, and Success Criteria for the Address Canvassing Test and the 2017 Puerto Rico Census Test, which outlines the research questions related to the design decisions to be made using the results of this test.

Address Canvassing Test—Buncombe County, North Carolina and St. Louis (Part), Missouri

For the Address Canvassing Test, the areas within Buncombe County, North Carolina and St. Louis (part), Missouri were chosen based on a variety of characteristics:

• One site is experiencing population and housing unit growth and contains a mix of urban, suburban and rural territory.

• One site is a city experiencing sustained population decline.

• Both sites contain a mix of address styles, such as city-style addresses (i.e., 101 Main St.), non city-style addresses (i.e., Rural Route 2, Box 12) and location descriptions (i.e., Tan Mobile Home).

• The urban site contains a mix of housing types and conditions, including small and large multi-unit structures, commercial-to-residential conversions, and mixed commercial and residential uses, and residential redevelopment, as well as an area in which housing units are vacant, uninhabitable, and have been demolished.

These characteristics can help the Census Bureau refine its operational plans for the 2020 Census by testing processes and systems in a growth setting as well as processes and systems in an area containing small and large multi-unit structures, commercial-to-residential conversions, mixed commercial and residential uses, and various housing unit status, such as vacant, uninhabitable and demolished.

Buncombe County, North Carolina places and Census designated places (CDP) | St. Louis, Missouri (part) places
Asheville city | St. Louis city.
Biltmore Forest town
Black Mountain town
Montreat town
Weaverville town
Woodfin town
Avery Creek CDP
Bent Creek CDP
Fairview CDP
Royal Pines CDP
Swannanoa CDP

All living quarters in the test sites are included in the In-Office Address Canvassing workload, as well as the In-Field Address Canvassing workload. This allows for the comparison of results from both In-Office Address Canvassing and In-Field Address Canvassing to measure the effectiveness of In-Office Address Canvassing procedures and processes.

2017 Puerto Rico Census Test—Carolina, Loíza, and Trujillo Alto Municipios

For the 2017 Puerto Rico Census Test, the areas of Carolina, Loíza, and Trujillo Alto municipios were chosen based on a variety of characteristics:

• Site is within the San Juan metropolitan area.

• Site includes anticipated areas of Self Response and Update Enumerate

• Site has a municipio with a mix of address types.

These characteristics can help the Census Bureau refine its operational plans for the 2020 Census by testing processes and systems in an area containing a large variety of address types, and it affords the opportunity to test both Self Response and Update Enumerate. The Self Response areas are where In-Field Address Canvassing will be conducted.

Carolina Municipio Census designated places (CDP) | Loíza Municipio census designated places (CDP) | Trujillo Alto Municipio Census designated places (CDP)
Carolina zona urbana | Loíza zona urbana | Trujillo Alto zona urbana.
| Suárez comunidad Vieques comunidad

All living quarters in the test sites are included in the In-Office Address Canvassing workload, as well as in the In-Field Address Canvassing workload. This allows for the comparison of results from both In-Office Address Canvassing and In-Field Address Canvassing to measure the effectiveness of In-Office Address Canvassing procedures and processes.

Address Canvassing

Background

For the 2010 Census, the Address Canvassing field staff, referred to as listers, traversed almost every block in the nation to compare what they observed on the ground to the contents of the Census Bureau's address list. Listers verified or corrected addresses that were on the list, added new addresses to the list, and deleted addresses that no longer existed. Listers also collected map spot locations (i.e., Global Positioning System coordinates) for each structure and added new streets.

In addition to Address Canvassing, the Census Bureau conducted the Group Quarters Validation (GQV) operation after the Address Canvassing operation and prior to enumeration for the 2010 Census. The purpose of the GQV operation was to improve the Group Quarters (GQ) frame. A GQ is a place where people live or stay, in a group living arrangement, that is owned or managed by an entity or organization providing housing and/or services for the residents. This is not a typical household-type living arrangement, and residency is commonly restricted to those receiving specific services. People living in GQs are usually not related to each other. Types of GQs include such places as college residence halls, residential treatment centers, skilled-nursing facilities, group homes, military barracks, correctional facilities, and workers' dormitories. Services offered may include custodial or medical care, as well as other types of assistance.

For the 2010 Census GQV operation, field staff visited a specific address to determine if it was a GQ, a housing unit, a transitory location, a non-residential unit, or if it was nonexistent. If the address was a GQ, the lister conducted an in-person interview with the GQ contact person to determine a type of GQ and collect additional information to plan for enumeration. In support of a more efficient census design strategy, the Census Bureau will not conduct a separate operation to validate GQ information in the 2020 Census. Instead, during the Address Canvassing Test and the 2020 Census, GQ information will be validated during the Address Canvassing operation.

2020 Census Address Canvassing: In-Office Address Canvassing

In-Office Address Canvassing is the process of using empirical geographic evidence (e.g., imagery, comparison of the Census Bureau's address list to partner-provided lists) to assess the current address list and make changes where necessary. This component removes geographic areas from the In-Field Address Canvassing workload based on the determination of address stability. In addition, this component detects and captures change from high quality administrative and third-party data, reducing the In-Field Address Canvassing workload as well.

In-Office Address Canvassing starts with Interactive Review (IR), which is an imagery-based review to assess the extent to which the number of addresses—both housing units and GQs—in the census address list are consistent with the number of addresses visible in current imagery. It also assesses the changes between the current imagery and an older vintage of imagery (around the time of the 2010 Census Address Canvassing).

Results from IR inform the Active Block Resolution (ABR) process, which seeks to research and update areas identified with growth, decline, undercoverage of addresses, or overcoverage of addresses from the comparison of the two different vintages of imagery and counts of addresses in the MAF. In addition to using the results from IR, the ABR process uses other data sources to attempt to resolve the identified issues in the office rather than sending these areas to In-Field Address Canvassing. The other data sources include local Geographic Information Systems (GIS) viewers available online, parcel data from local governments, local files acquired through the U.S. Census Bureau's Geographic Support System (GSS) program, and commercial data. Areas not resolved in the office become the universe of geographic areas for the In-Field Address Canvassing.

2020 Census Address Canvasing: In-Field Address Canvassing

In-Field Address Canvassing is the process of having field staff visit specific geographic areas to identify every place where people could live or stay and compare what they see on the ground to the existing census address list to either verify or correct the address and location information. In general, the field staff will:

• Receive assignments and prepare for work.

• Locate and travel to an assignment.

• Compare what is on the ground to the Census Bureau address list and update it as necessary (add addresses, delete addresses, and correct addresses).

• Update the map as required (update street names, add streets, and collect GPS coordinates).

• Collect GQ information including the GQ type for GQ addresses.

• Mark the assignment as complete and submit the results.

• Receive next assignment until no more assignments exist.

Listers will knock on doors at every structure in an attempt to locate Living Quarters (LQs). If someone answers, the lister will provide a Confidentiality Notice and ask about the address in order to verify or update the information, as appropriate. The listers will then ask if there are any additional LQs in the structure or on the property. If there are additional LQs, the listers will collect/update that information, as appropriate. If listers do not find anyone at home, they will update the address list by observation, as was done in the 2010 Census Address Canvassing. The Census Bureau expects that they would make contact with residents (i.e., someone is at home) approximately 25 percent of the time. Please note, the Address Canvassing Testing FRN incorrectly stated that the Census Bureau expects the listers would make contact with residents 50 percent of the time.

The purpose of the Address Canvassing Operation in the 2020 Census is (1) to deliver a complete and accurate address list and spatial database for enumeration and tabulation, and (2) to determine the type and address characteristics for each living quarter. A complete and accurate address list and map is the cornerstone of a successful census.

The Census Bureau needs to solidify evidence showing whether the strategies being tested can reduce the cost per housing unit during a decennial census, while still providing high quality and accurate census data. The results of this Address Canvassing Test and the 2017 Puerto Rico Census Test will inform decisions that the Census Bureau will make to refine the 2020 Census Operational Plan as well as the 2020 Census Detailed Operational Plan for the Address Canvassing Operation. The results will also help guide the evaluation of additional 2020 Census test results later this decade.

Affected Public: Households/Individuals.

Frequency: One time.

Respondent's Obligation: Mandatory.

Legal Authority: Title 13 United States Code, Sections 141 and 193.

This information collection request may be viewed at www.reginfo.gov. Follow the instructions to view Department of Commerce collections currently under review by OMB.

Written comments and recommendations for the proposed information collection should be sent within 30 days of publication of this notice to OIRA_Submission@omb.eop.gov or fax to (202)395-5806.

Dated: June 28, 2016.
Glenna Mickelson,
Management Analyst, Office of the Chief Information Officer.

[FR Doc. 2016-15742 Filed 7-1-16; 8:45 am]

BILLING CODE 3510-07-P